ENVIRONMENTAL PROTECTION AGENCY

40 CFR Parts 52 and 61

[SIP NO. SD-001-0013, SD-001-0014, SD-001-0015; FRL-7475-1]

Approval and Promulgation of Air Quality Implementation Plans; South Dakota

AGENCY: Environmental Protection Agency (EPA).

ACTION: Final rule.

SUMMARY: EPA is partially approving and partially disapproving State Implementation Plan (SIP) revisions submitted by the State of South Dakota on May 6, 1999 and June 30, 2000. The revisions modify the State's air quality rules so they are consistent with federal rules and clarify existing provisions. EPA is also removing from the SIP or not approving into the SIP, certain provisions of the State's air quality rules because they are not related to attainment or maintenance of the National Ambient Air Quality Standards (NAAQS) and are not appropriate for inclusion in the SIP. This action is being taken under section 110 of the Clean Air Act.

EFFECTIVE DATE: This final rule is effective May 7, 2003.

ADDRESSES: Copies of the documents relevant to this action are available for public inspection during normal business hours at the Air and Radiation Program, Environmental Protection Agency, Region 8, 999 18th Street, Suite 300, Denver, Colorado, 80202 and copies of the Incorporation by Reference material at the Air and Radiation Docket and Information Center, U.S. Environmental Protection Agency, Room B-108 (Mail Code 6102T), 1301 Constitution Ave., NW., Washington, DC 20460. Copies of the State documents relevant to this action are available for public inspection at the South Dakota Department of Environmental and Natural Resources, Air Quality Program, Joe Foss Building, 523 East Capitol, Pierre, South Dakota 57501.

FOR FURTHER INFORMATION CONTACT: Laurel Dygowski, EPA, Region 8, (303) 312-6144.

SUPPLEMENTARY INFORMATION: On January 27, 2003 (68 FR 3848), EPA published a notice of proposed rulemaking (NPR) for the State of South Dakota. The NPR proposed partial approval and partial disapproval of State Implementation Plan (SIP) revisions submitted by the State of South Dakota on May 6, 1999 and June 30, 2000. The May 6, 1999 and June 30, 2000 submittals revise the State's air quality rules so they are consistent with federal rules and clarify existing provisions. EPA is also removing from the SIP or not approving into the SIP, certain provisions of the State's air quality rules because they are not related to attainment or maintenance of the National Ambient Air Quality Standards (NAAQS) and are not appropriate for inclusion in the SIP.

I. Final Action

Since we received no comments on the January 27, 2003 notice of proposed rulemaking, we are partially approving and partially disapproving State Implementation Plan revisions submitted by the State of South Dakota submitted on May 6, 1999 and June 30, 2000, except for provisions that we are not acting on, or have acted on previously. The sections of the rules that we are proposing to approve will replace the same numbered sections that have been previously approved into the SIP and are as follows: Sections 74:36:01:01(1) through (79), effective 4/4/1999; 74:36:01:03, effective 4/4/1999; 74:36:01:05, effective 4/4/1999; 74:36:01:07, effective 4/4/1999; 74:36:01:08, effective 4/4/1999; 74:36:01:10, effective 4/4/1999; 74:36:01:17, effective 4/4/1999; 74:36:01:20, effective 4/4/1999; 74:36:02:02, effective 6/27/2000; 74:36:02:03, effective 6/27/2000; 74:36:02:04, effective 6/27/2000; 74:36:02:05, effective 6/27/2000; 74:36:04:03, effective 4/4/1999; 74:36:04:09, effective 4/4/1999; 74:36:04:11, effective 4/4/1999; 74:36:04:12, effective 4/4/1999; 74:36:04:12.01, 4/4/1999; 74:36:04:13, effective 4/4/1999; 74:36:01:14, effective 4/4/1999; 74:36:04:18, effective 4/4/1999; 74:36:04:19, effective 4/4/1999; 74:36:04:20, effective 4/4/1999; 74:36:04:20.01, effective 4/4/1999; 74:36:04:20.04, effective 4/4/1999; 74:36:04:22, effective 4/4/1999; 74:36:06:02, effective 4/4/1999; 74:36:06:03, effective 4/4/1999; 74:36:06:07, effective 4/4/1999; 74:36:11:01, effective 6/27/2000; 74:36:12:01, effective 6/27/2000; 74:36:13:02, effective 6/27/2000; 74:36:13:03, effective 6/27/2000; 74:36:13:04, effective 6/27/2000; and 74:36:13:07, effective 6/27/2000.

We are not acting on the following as SIP revisions because they are not appropriate to be included in the SIP: sections 74:36:07:06.01; 74:36:07:34-42.01; and 74:36:13:08; and chapters 74:36:05, 74:36:08, and 74:36:16.

The SIP provisions that we previously acted on are as follows: 74:36:07:06.2, 74:36:07:07.01, 74:36:07:11 (repealed), 74:36:07:43, and 74:36:11:04.

Also, the State made revisions to previously approved 111(d) plans. Specifically, section 74:36:07:06.01 was updated to incorporate by reference 40 CFR part 60, as of July 1, 1998 and sections 74:36:07:34-42:01 were updated to incorporate by reference 40 CFR part 60, as of July 1, 1999. We are approving these revisions to the 111(d) plans.

We are also approving the removal of chapter 74:36:08 from the SIP and updating the table in 40 CFR 61.04(c)(8) to indicate that the 40 CFR part 61 NESHAPS are now delegated to the State.

Section 110(l) of the Clean Air Act states that a SIP revision cannot be approved if the revision would interfere with any applicable requirement concerning attainment and reasonable further progress towards attainment of the NAAQS or any other applicable requirements of the Act. We believe the South Dakota SIP revisions that are the subject of this document will not interfere with any applicable requirement concerning attainment and reasonable further progress towards attainment of the NAAQS or any other applicable requirements of the Act because the State's revisions are as no less stringent than requirements currently contained in their SIP. Additionally, currently there are no nonattainment areas in South Dakota.

II. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 6, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 61

Air pollution control, Arsenic, Asbestos, Benzene, Beryllium, Hazardous substances, Mercury, Vinyl chloride.

Dated: March 17, 2003.
Kerrigan G. Clough,
Deputy Regional Administrator, Region 8.

40 CFR parts 52 and 61 are amended as follows:

PART 52—[AMENDED]

1. The authority citation for part 52 continues to read as follows:

Authority: 42 U.S.C. 7401 et seq.

Subpart QQ—South Dakota

2. Section 52.2170 is amended by adding paragraph (c)(21) to read as follows:

§ 52.2170 Identification of plan.

* * * * *

(c) * * *

(21) On May 6, 1999 and June 30, 2000, South Dakota submitted revisions to its Air Pollution Control Program Rules. The sections of the rule being approved replace the same numbered sections that have previously been approved into the SIP. The provisions of section 74:36:07, except 74:36:07:29 and 74:36:07:30, which have previously been incorporated by reference in paragraphs (c)(16)(i)(A) and (c)(18)(i) of this section, are being removed from the South Dakota SIP.

(i) Incorporation by reference.

(A) Sections 74:36:01:01(1) through (79), effective 4/4/1999; 74:36:01:03, effective 4/4/1999; 74:36:01:05, effective 4/4/1999; 74:36:01:07, effective 4/4/1999; 74:36:01:08, effective 4/4/1999; 74:36:01:10, effective 4/4/1999; 74:36:01:17, effective 4/4/1999; 74:36:01:20, effective 4/4/1999; 74:36:02:02, effective 6/27/2000; 74:36:02:03, effective 6/27/2000; 74:36:02:04, effective 6/27/2000; 74:36:02:05, effective 6/27/2000; 74:36:04:03, effective 4/4/1999; 74:36:04:09, effective 4/4/1999; 74:36:04:11, effective 4/4/1999; 74:36:04:12, effective 4/4/1999; 74:36:04:12.01, effective 4/4/1999; 74:36:04:13, effective 4/4/1999; 74:36:01:14, effective 4/4/1999; 74:36:04:18, effective 4/4/1999; 74:36:04:19, effective 4/4/1999; 74:36:04:20, effective 4/4/1999; 74:36:04:20.01, effective 4/4/1999; 74:36:04:20.04, effective 4/4/1999; 74:36:04:22, effective 4/4/1999; 74:36:06:02, effective 4/4/1999; 74:36:06:03, effective 4/4/1999; 74:36:06:07, effective 4/4/1999; 74:36:11:01, effective 6/27/2000; 74:36:12:01, effective 6/27/2000; 74:36:13:02, effective 6/27/2000; 74:36:13:03, effective 6/27/2000; 74:36:13:04, effective 6/27/2000; and 74:36:13:07, effective 6/27/2000.

PART 61—[AMENDED]

1. The authority citation for part 61 continues to read as follows:

Authority: 42 U.S.C. 7401 et seq.

Subpart A—General Provisions

2. In § 61.04 the table in paragraph (c)(8) is amended by removing the footnote 2 designation from the heading for “SD'.

[FR Doc. 03-8358 Filed 4-4-03; 8:45 am]

BILLING CODE 6560-50-P